DEPARTMENT OF THE INTERIOR

National Park Service

[NPS-WASO-NAGPRA-10375; 2200-1100-665]

Notice of Inventory Completion: Museum of Anthropology, University of Michigan, Ann Arbor, MI; Correction

AGENCY: National Park Service, Interior.

ACTION: Notice; correction.

Notice is here given in accordance with the Native American Graves Protection and Repatriation Act (NAGPRA), 25 U.S.C. 3003, of the completion of an inventory of human remains in the possession of the University of Michigan, Ann Arbor, MI. The human remains were removed from Emmet County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals in the Notice of Inventory Completion published in the Federal Register (74 FR 42094-42095, August 20, 2009).

In the Federal Register (74 FR 42094, August 20, 2009), paragraph four is corrected by deleting the following sentences at the top of column three:

The human remains are of an adult and a second, younger adult individual. Since that time, based on skeletal and dental morphology, the older individual has been identified as being of mixed European and Native American ancestry. There is insufficient evidence to positively determine the biological affiliation of the younger individual, but they may also be of mixed European and Native American ancestry.

In the Federal Register (74 FR 42094, August 20, 2009), paragraph four is corrected by inserting the following sentences at the top of column three:

The human remains are of two adults and a third, younger adult individual. Since that time, based on skeletal and dental morphology, one of the older individuals has been identified as being of mixed European and Native American ancestry. There is insufficient evidence to positively determine the biological affiliation of the other individuals, but they may also be of mixed European and Native American ancestry.

In the Federal Register (74 FR 42094, August 20, 2009), paragraph seven is corrected by changing the words “two individuals” to “three individuals.”

In the Federal Register (74 FR 42094, August 20, 2009), paragraph eight is corrected by changing the words “two individuals” to “three individuals.”

Additional Requestors and Disposition

Representatives of any other Indian tribe that believes itself to be culturally affiliated with the human remains should contact Dr. Ben Secunda, NAGPRA Project Manager, University of Michigan, Office of the Vice President for Research, 4080 Fleming Building, 503 Thompson St., Ann Arbor, MI 48109-1340; telephone (734) 647-9085, before July 12, 2012. Repatriation of the human remains to the Little Traverse Bay Bands of Odawa Indians may proceed after that date if no additional claimants come forward.

The University of Michigan is responsible for notifying the Little Traverse Bay Bands of Odawa Indians that this notice has been published.

Dated: June 7, 2012.
David Tarler,
Acting Manager, National NAGPRA Program.

[FR Doc. 2012-14301 Filed 6-11-12; 8:45 am]

BILLING CODE 4312-50-P